DEPARTMENT OF COMMERCE

National Oceanic and Atmospheric Administration

RIN 0648-XA273

Mid-Atlantic Fishery Management Council; Public Meeting

AGENCY: National Marine Fisheries Service (NMFS), National Oceanic and Atmospheric Administration (NOAA), Commerce.

ACTION: Notice of a public meeting.

SUMMARY: The Mid-Atlantic Fishery Management Council's (Council) Visioning Project Committee will hold a public meeting.

DATES: The meeting will be held on Wednesday, March 30, 2011, from 9:30 a.m. to 5 p.m.

ADDRESSES: The meeting will be held at SRA Touchstone Consulting, 1920 N St., NW., Suite 600; Washington, DC 20036; telephone: (888) 999-4377.

Council address: Mid-Atlantic Fishery Management Council, 800 N. State Street, Suite 201, Dover, DE 19901; telephone: (302) 674-2331.

FOR FURTHER INFORMATION CONTACT: Christopher M. Moore Ph.D., Executive Director, Mid-Atlantic Fishery Management Council, 800 N. State Street, Suite 201, Dover, DE 19901; telephone: (302) 526-5255.

SUPPLEMENTARY INFORMATION: The purpose of this Visioning Project Committee meeting is to develop a roadmap for the implementation of the Visioning and Strategic Planning Project. The roadmap will detail how the Council solicits stakeholder input and then incorporates that input into a vision and strategic plan that will guide Council Actions in the future. Any briefing materials will be posted to the Council's Visioning and Strategic Planning Project Web site: http://www.mafmc.org/Visioning/Visioning.htm.

Special Accommodations

The meeting is physically accessible to people with disabilities. Requests for sign language interpretation or other auxiliary aids should be directed to M. Jan Saunders at the Mid-Atlantic Council Office, (302) 526-5251, at least 5 days prior to the meeting date.

Dated: March 3, 2011.
Tracey L. Thompson,
Acting Director, Office of Sustainable Fisheries, National Marine Fisheries Service.

[FR Doc. 2011-5247 Filed 3-8-11; 8:45 am]

BILLING CODE 3510-22-P